DEPARTMENT OF HEALTH AND HUMAN SERVICES

Centers for Disease Control and Prevention

[30Day-25-25AC]

Agency Forms Undergoing Paperwork Reduction Act Review

In accordance with the Paperwork Reduction Act of 1995, the Centers for Disease Control and Prevention (CDC) has submitted the information collection request titled “Overdose Response Strategy Data Collection” to the Office of Management and Budget (OMB) for review and approval. CDC previously published a “Proposed Data Collection Submitted for Public Comment and Recommendations” notice on October 21, 2024 to obtain comments from the public and affected agencies. CDC received three public comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570. Comments and recommendations for the proposed information collection should be sent within 30 days of publication of this notice to www.reginfo.gov/public/do/PRAMain. Find this particular information collection by selecting “Currently under 30-day Review—Open for Public Comments” or by using the search function. Direct written comments and/or suggestions regarding the items contained in this notice to the Attention: CDC Desk Officer, Office of Management and Budget, 725 17th Street NW, Washington, DC 20503 or by fax to (202) 395-5806. Provide written comments within 30 days of notice publication.

Proposed Project

Overdose Response Strategy Data Collection—New—National Center for Injury Prevention and Control (NCIPC), Centers for Disease Control and Prevention (CDC).

Background and Brief Description

Drug overdoses remain the leading cause of injury-related death in the United States. CDC predicts that around 108,000 Americans died from a drug overdose in the 12-month period ending December 2023. Recently, overdose deaths have been linked to the rapid increase in synthetic opioids, including illicitly manufactured fentanyl (IMF), and a resurgence of stimulants, particularly methamphetamine, into the illegal drug supply.

Multisector collaboration is critical to preventing overdoses and saving lives. Two key sectors in this response are public health and public safety, as they are both on the front lines and both tasked with improving community safety and well-being. CDC demonstrates strong commitment to public health/public safety partnerships through implementation of several national programs, including the Overdose Response Strategy (ORS).

ORS teams support public health and public safety entities in their jurisdictions by:

• Sharing data systems to inform rapid and effective community overdose prevention efforts.

• Supporting immediate, evidence-based response efforts that can directly reduce overdose deaths.

• Designing and using promising strategies at the intersection of public health and public safety.

• Disseminating information to support the implementation of evidence-informed overdose prevention strategies.

As the ORS is one of CDC's flagship overdose prevention programs, and partnering with public safety is one of CDC's key overdose prevention strategies, a greater understanding of the impact and effectiveness of the ORS is needed to inform program enhancements and improvements.

This data collection focuses on a survey and a reporting tool that ORS teams and their partners will complete to provide critical data to CDC for program monitoring, to inform technical assistance and guidance documents produced by CDC or other partners, and to assess the extent to which the ORS program is achieving the goal of supporting public health and public safety partnerships to reduce drug overdose. It will also provide CDC with the capacity to respond in a timely manner to requests for information about the program from the Department of Health and Human Services (HHS), the White House, Congress, and other sources. Information collected will be disseminated to ORS teams and to the public via an annual Program Evaluation Report and an ORS Annual Report. Data from both reports will largely be used to develop programmatic reports, tools, and implementation guides for the purposes of program improvement.

CDC requests OMB approval for an estimated annual 653 annual burden hours. There is no cost to respondents other than their time to participate.

Estimated Annualized Burden Hours
Type of respondents | Form name | Number of respondents | Number of responses per respondent | Average burden per response (in hours)
ORS Respondents | Invitation email | 287 | 1 | 2/60
ORS Respondents | Reminder email | 287 | 1 | 2/60
ORS Public Health Analysts | ORS Annual Evaluation Survey—PHA | 61 | 1 | 30/60
| ORS Quarterly Reporting Template | 61 | 4 | 1
ORS Drug Intelligence Officers | ORS Annual Evaluation Survey—DIO | 61 | 1 | 30/60
| ORS Quarterly Reporting Template | 61 | 4 | 1
State, territory, county and city health department staff | ORS Annual Evaluation Survey—Public Health Partner | 70 | 1 | 30/60
HIDTA staff | ORS Annual Evaluation Survey—Public Safety Partner | 70 | 1 | 30/60
CDCF ORS National Team Staff | ORS Annual Evaluation Survey—ORS Management/Coordination Team | 25 | 1 | 30/60

Jeffrey M. Zirger,
Lead, Information Collection Review Office, Office of Public Health Ethics and Regulations, Office of Science, Centers for Disease Control and Prevention.

[FR Doc. 2025-10727 Filed 6-11-25; 8:45 am]

BILLING CODE 4163-18-P